DEPARTMENT OF HEALTH AND HUMAN SERVICES

National Institutes of Health

National Cancer Institute; Amended Notice of Meeting

Notice is hereby given of a change in the meeting of the Board of Scientific Counselors for Clinical Sciences and Epidemiology National Cancer Institute, July 9, 2019, 9:00 a.m. to July 9, 2019, 3:45 p.m., National Institutes of Health, Porter Neuroscience Building, 35 Convent Drive, Building 35, Bethesda, MD 20892 which was published in the Federal Register on February 15, 2019, 84 FR 4494.

This meeting notice is amended to add an open session from 11:55 a.m. to 12:15 p.m. to present concepts for Center for Cancer Research R&D contracts. The meeting is partially closed to the public.

Dated: June 12, 2019.
Melanie J. Pantoja,
Program Analyst, Office of Federal Advisory Committee Policy.

[FR Doc. 2019-12709 Filed 6-14-19; 8:45 am]

BILLING CODE 4140-01-P